DEPARTMENT OF TRANSPORTATION

Surface Transportation Board

[STB Finance Docket No. 34625] ¹

R.J. Corman Railroad Property, LLC—Lease Exemption—Line of CSX Transportation, Inc.

R.J. Corman Railroad Property, LLC (Railroad Property),² a Class III rail carrier, has filed a verified notice of exemption under 49 CFR 1150.41 to acquire by lease a line of railroad of CSX Transportation, Inc. (CSXT), in Louisville, KY, known as the Water Street Lead, extending from the southeast edge of the Mellwood Avenue crossing of the Water Street Lead at or near milepost OTR 4.74 (also known as milepost OOT 1.8) on CSXT's Louisville Terminal Subdivision to the end of track north of River Road, a total distance of approximately 2.4 miles, along with associated industry leads and switch tracks. Railroad Property will also acquire incidental overhead trackage rights between Louisville and Anchorage, KY, on CSXT's LCL Subdivision between the Water Street Lead and milepost 12.49 at HK Tower in Anchorage, a distance of approximately 10.75 miles (the Anchorage Trackage Rights),³ to allow connection with another Railroad Property line.⁴

¹ Under the Board's regulations at 49 CFR 1150.42(b), publication in the Federal Register of this notice of exemption should have taken place within 30 days of its filing (February 25, 2005). Through inadvertence, however, publication did not occur within that 30-day timeframe. The exemption was, however, effective February 2, 2005—7 days after the notice was filed.

² Railroad Property is a member of the R.J. Corman family of nine Class III railroads. Railroad Property was formerly known as R.J. Corman Equipment Company, LLC. The name of that entity was formally changed to R.J. Corman Railroad Property, LLC, and its non-rail assets were transferred to a new noncarrier entity named R.J. Corman Equipment Company. As a result, the new “Equipment Company” does not own any railroad assets, and Railroad Property holds the railroad assets and bears the residual common carrier obligations of the “old” R.J. Corman Equipment Company, LLC.

³ According to Railroad Property, it has reached a tentative agreement with CSXT providing for Railroad Property's lease of the Water Street Lead and acquisition of the Anchorage Trackage Rights, and it anticipated that a final agreement would be executed on or before February 5, 2005.

⁴ CSXT will also grant Railroad Property operating rights between the Water Street Lead and CSXT's Osborne Yard in Louisville for purposes of effectuating interchange.

This transaction is related to STB Finance Docket No. 34624, R.J. Corman Railroad Company/Central Kentucky Lines, LLC—Acquisition and Operation Exemption—Lines of R.J. Corman Railroad Property, LLC, wherein R.J. Corman Railroad Company/Central Kentucky Lines, LLC (RJCC), Railroad Property's corporate affiliate, seeks to sublease from Railroad Property and operate the Water Street Lead and the Anchorage Trackage Rights.

Railroad Property certifies that its projected revenues as a result of this transaction will not result in it becoming a Class II or Class I rail carrier. But, because Railroad Property's projected annual revenues will exceed $5 million, it certified to the Board on December 7, 2004, that, prior to that date, it sent the required notice of the transaction to the national offices of all labor unions representing employees on the affected lines and posted a copy of the notice at the workplace of the employees on the affected lines. See 49 CFR 1150.42(e).

Railroad Property stated that it intended to consummate the transaction on February 5, 2005, and RJCC would commence operations on February 7, 2005.

If the notice contains false or misleading information, the exemption is void ab initio. Petitions to revoke the exemption under 49 U.S.C. 10502(d) may be filed at any time. The filing of a petition to revoke will not automatically stay the transaction.

An original and 10 copies of all pleadings, referring to STB Finance Docket No. 34625, must be filed with the Surface Transportation Board, 1925 K Street, NW., Washington, DC 20423-0001. In addition, one copy of each pleading must be served on Ronald A. Lane, 29 North Wacker Drive, Suite 920, Chicago, IL 60606-2832.

Board decisions and notices are available on our Web site at http://www.stb.dot.gov.

Decided: February 15, 2005.
By the Board, David M. Konschnik, Director, Office of Proceedings.
Vernon A. Williams,
Secretary.

[FR Doc. 05-4573 Filed 3-9-05; 8:45 am]

BILLING CODE 4915-01-P